DEPARTMENT OF JUSTICE

Antitrust Division

Notice Pursuant to the National Cooperative Research and Production Act of 1993—Technologies for Target Assessment

Notice is hereby given that, on January 6, 2006, pursuant to Section 6(a) of the National Cooperative Research and Production Act of 1993, 15 U.S.C. 4301 et seq. (“the Act”), Technologies for Target Assessment (“TATS member firm Icoria, Inc.”) has filed written notifications simultaneously with the Attorney General and the Federal Trade Commission disclosing changes in its membership. The notifications were filed for the purpose of extending the Act's provisions limiting the recovery of antitrust plaintiffs to actual damages under specified circumstances. Specifically, IO Informatics, Inc., Emeryville, CA has been added as a party to this venture. Also, Agilent Technologies, Inc., Santa Clara, CA has withdrawn as a party to this venture.

No other changes have been made in either the membership or planned activity of the group research project. Membership in this group research project remains open, and TATS member firm Icoria, Inc. intends to file additional written notification disclosing all changes in membership.

On August 1, 2002, TATS member firm Icoria, Inc. filed its original notification pursuant to Section 6(a) of the Act. The Department of Justice published a notice in the Federal Register pursuant to Section 6(b) of the Act on September 12, 2002 (67 FR 57853).

The last notification was filed with the Department of Justice on October 18, 2004. A notice was published in the Federal Register pursuant to Section 6(b) of the Act on February 2, 2005 (70 FR 5488).

Dorothy B. Fountain,
Deputy Director of Operations, Antitrust Division.

[FR Doc. 06-1167 Filed 2-7-06; 8:45 am]

BILLING CODE 4410-11-M